DEPARTMENT OF THE INTERIOR

Bureau of Land Management

[LLIDC00000.L16400000.BF0000.241A.0]

Notice of Public Meeting, Coeur d'Alene District Resource Advisory Council Meeting and Recreation Subcommittee Meeting; Idaho

AGENCY: Bureau of Land Management, Interior.

ACTION: Notice of Public Meeting.

SUMMARY: In accordance with the Federal Land Policy and Management Act (FLPMA), the Federal Advisory Committee Act of 1972 (FACA), and the Federal Lands Recreation Enhancement Act of 2004 (FLREA), the U.S. Department of the Interior, Bureau of Land Management (BLM) Coeur d'Alene District Resource Advisory Council (RAC) and Recreation RAC Subcommittee will meet as indicated below.

DATES: May 11, 2009. The meeting will start at 10 a.m. and end no later than 4 p.m. The public comment period will be from 1 p.m. to 1:30 p.m. The meeting will be held at the Idaho Department of Labor and Commerce, 1350 Troy Rd., Moscow, ID.

FOR FURTHER INFORMATION CONTACT: Lisa Wagner, RAC Coordinator, BLM Coeur d'Alene District, 3815 Schreiber Way, Coeur d'Alene, Idaho 83815 or telephone at (208) 769-5014.

SUPPLEMENTARY INFORMATION: The 15-member RAC advises the Secretary of the Interior, through the Bureau of Land Management, on a variety of planning and management issues associated with public land management in Idaho. The agenda will include the following topics: Election of Officers and Forest Service recreation fee proposals (Recreation RAC Subcommittee). Additional topics may be added and will be included in local media announcements. More information is available at http://www.blm.gov/rac/id/id_index.htm.

All meetings are open to the public. The public may present written comments to the RAC in advance of or at the meeting. Each formal RAC meeting will also have time allocated for receiving public comments. Depending on the number of persons wishing to comment and time available, the time for individual oral comments may be limited. Individuals who plan to attend and need special assistance, such as sign language interpretation or other reasonable accommodations, should contact the BLM as provided above.

Dated: March 23, 2009.
Stephanie Snook,
Acting District Manager.

[FR Doc. E9-7459 Filed 4-1-09; 8:45 am]

BILLING CODE 4310-GG-P